DEPARTMENT OF ENERGY

Federal Energy Regulatory Commission

[Project No. 3511-024]

Lower Saranac Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 3511-024.

c. Date filed: May 29, 2020.

d. Applicant: Lower Saranac Hydro, LLC.

e. Name of Project: Groveville Hydroelectric Project.

f. Location: On Fishkill Creek, in the City of Beacon, Dutchess County, New York. The project does not occupy any federal land.

g. Filed Pursuant to: Federal Power Act 16 U.S.C. 791(a)-825(r).

h. Applicant Contact: Ms. Elise Anderson, Senior Environmental Permitting Specialist, Lower Saranac Hydro, LLC, Enel Green Power North America, Inc., 100 Brickstone Square, Suite 300, Andover, MA 01810; Phone: (978) 447-4408 or email at elise.anderson@enel.com.

i. FERC Contact: Jeremy Feinberg at (202) 502-6893 or jeremy.feinberg@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 28, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY).

m. The application is not ready for environmental analysis at this time.

n. The existing Groveville Mills Hydroelectric Project consists of: (1) A 167-foot-long, 37-foot-high concrete gravity dam, with a 140-foot-long spillway having a crest elevation of 172.4 feet National Geodetic Vertical Datum of 1929 (NGVD29) and topped with 3-foot-high wooden flashboards; (2) an impoundment with a gross storage capacity of approximately 43 acre-feet and a surface area of 5 acres at a normal pool elevation of 175.4 feet NGVD29; (3) an intake structure with two gates and a 27-foot-high, 34-foot-wide trashrack; (4) a 9-foot-diameter, approximately 140-foot-long riveted steel underground penstock; (5) a powerhouse containing three fixed-output turbine-generator units with a total rated capacity of 927 kilowatts; (6) a 4-foot-high submerged stilling basin weir approximately 60 feet downstream of the dam spillway; (7) a 20-foot-wide, 90-foot-long tailrace; (8) a 20-foot-long underground generator lead connecting to a step-up transformer that connects to a 13.2-kilovolt, 40-foot-long underground transmission line that then connects to a 15-foot-long aerial transmission line before connecting to the regional grid; and (9) appurtenant facilities.

The project operates in a modified run-of-river mode. The project had an average annual generation of 1,762.7 megawatt-hours between 2012 and 2019.

o. A copy of the application may be viewed on the Commission's website at http://www.ferc.gov using the “eLibrary” link. Enter the docket number excluding the last three digits in the docket number field to access the document (P-3511). For assistance, contact FERC Online Support at FERCOnlineSupport@ferc.gov or call toll-free, (866) 208-3676 or (202) 502-8659 (TTY). At this time, the Commission has suspended access to its Public Reference Room due to the proclamation declaring a National Emergency concerning the Novel Coronavirus Disease (COVID-19) issued by the President on March 13, 2020.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—August 2020

Request Additional Information—August 2020

Issue Acceptance Letter—November 2020

Issue Scoping Document 1 for comments—December 2020

Request Additional Information (if necessary)—February 2021

Issue Scoping Document 2 (if necessary)—March 2021

Issue Notice of Ready for Environmental Analysis—March 2021

Commission issues Environmental Assessment (EA)—September 2021

Comments on EA—October 2021

Final amendments to the application must be filed with the Commission no later than 30 days from the issuance date of the notice of ready for environmental analysis.

Kimberly D. Bose,
Secretary.

[FR Doc. 2020-13033 Filed 6-16-20; 8:45 am]

BILLING CODE 6717-01-P